DEPARTMENT OF ENERGY

Federal Energy Regulatory Commission

[Docket No. CP14-509-002]

Paiute Pipeline Company; Notice of Amendment of Certificate

Take notice that on November 6, 2015, Paiute Pipeline Company (Paiute), P.O. Box 94197, Las Vegas, Nevada 89193-4197, filed an application in Docket No. CP14-509-002, requesting to amend its certificate of public convenience and necessity that was issued by the Commission in an order on May 14, 2015 (Order). The Order authorized Paiute to construct, and operate certain pipeline and associated facilities for its 2015 Elko Area Expansion Project (Project) located in Elko County, Nevada, and directed Paiute to make certain rate and tariff compliance filings and to restate its rates based on the cost of service findings in the Order. Paiute is requesting to amend its certificate to update: (1) Its estimated capital costs; (2) its rate of return and depreciation; and (3) the period of actual operating and maintenance (O&M) expenses used to calculate rates, all as more fully set forth in the application, which is on file with the Commission and open to public inspection.

Paiute states that it expects to place the Project in service on or after December 15, 2015. We note that if Paiute chooses to commence Project service before the Commission has acted on its amendment application, its rates will no longer be subject to change by means of an amendment to its certificate pursuant to section 7 of the Natural Gas Act (NGA). Accordingly, in that event, the Commission would have to terminate this proceeding, without prejudice to Paiute filing a general rate case under section 4 of the NGA.

This filing may also be viewed on the web at http://www.ferc.gov using the “eLibrary” link. Enter the docket number excluding the last three digits in the docket number field to access the document. For assistance, contact FERC at FERCOnlineSupport@ferc.gov or call toll-free, (886) 208-3676 or TYY, (202) 502-8659.

Any questions regarding this application should be directed to Mark A. Litwin, Vice President/General Manager, Paiute Pipeline Company, P.O. Box 94197, Las Vegas, Nevada 89193-4197 or by calling 702-364-3195.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions in lieu of paper using the “eFiling” link at http://www.ferc.gov. Persons unable to file electronically should submit an original and 5 copies of the protest or intervention to the Federal Energy Regulatory Commission, 888 First Street NE., Washington, DC 20426. See, 18 CFR 385.2001(a)(1)(iii) and the instructions on the Commission's Web site under the “e-Filing” link.

Comment Date: 5:00 p.m. Eastern Time on November 27, 2015.

Dated: November 17, 2015.
Nathaniel J. Davis, Sr.,
Deputy Secretary.

[FR Doc. 2015-29753 Filed 11-20-15; 8:45 am]

BILLING CODE 6717-01-P